DEPARTMENT OF TRANSPORTATION

Federal Aviation Administration

14 CFR Part 39

[Docket No. FAA-2006-26048; Directorate Identifier 2006-NM-191-AD; Amendment 39-14967; AD 2007-05-06]

RIN 2120-AA64

Airworthiness Directives; McDonnell Douglas Model 717-200 Airplanes

AGENCY: Federal Aviation Administration (FAA), Department of Transportation (DOT).

ACTION: Final rule.

SUMMARY: The FAA is adopting a new airworthiness directive (AD) for certain McDonnell Douglas Model 717-200 airplanes. This AD requires replacing certain attaching hardware of the bulkhead nipple assemblies of the left and right wing vent boxes with new electrical bonding attaching hardware, doing resistance testing of the new electrical bonds, and doing fuel leakage testing of the reworked nipple assemblies. This AD results from fuel system reviews conducted by the manufacturer. We are issuing this AD to provide a conductive path, from the bulkhead nipple assemblies of the left and right wing vent boxes to the airframe structure inside the wing fuel tanks, to dissipate high-amperage lightning-induced currents, which might otherwise create an ignition source for fuel vapors inside the wing vent boxes and lead to an explosion of the fuel tanks.

DATES: This AD becomes effective April 9, 2007.

The Director of the Federal Register approved the incorporation by reference of a certain publication listed in the AD as of April 9, 2007.

ADDRESSES: You may examine the AD docket on the Internet at http://dms.dot.gov or in person at the Docket Management Facility, U.S. Department of Transportation, 400 Seventh Street, SW., Nassif Building, Room PL-401, Washington, DC.

Contact Boeing Commercial Airplanes, Long Beach Division, 3855 Lakewood Boulevard, Long Beach, California 90846, Attention: Data and Service Management, Dept. C1-L5A (D800-0024), for the service information identified in this AD.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain McDonnell Douglas Model 717-200 airplanes. That NPRM was published in the Federal Register on October 13, 2006 (71 FR 60446). That NPRM proposed to require replacing certain attaching hardware of the bulkhead nipple assemblies of the left and right wing vent boxes with new electrical bonding attaching hardware, doing resistance testing of the new electrical bonds, and doing fuel leakage testing of the reworked nipple assemblies.

Comments

We provided the public the opportunity to participate in the development of this AD. We have considered the comments received.

Request To Clarify Service Information Requirement

One commenter, Hawaiian Airlines, requests that we clarify what service information is acceptable for compliance with the AD. The commenter asserts that the NPRM states that the use of Boeing Service Bulletin 717-28-0011, Revision 2, dated July 19, 2006, is acceptable for compliance. However, the commenter states that, although Revision 2 of the service bulletin added a leakage test of the reworked nipple assemblies, Revision 2 states that no further work is required. Therefore, the commenter inquires whether compliance with earlier revisions of the service information will be acceptable.

We agree that there may be some confusion here. Service Bulletin 717-28-0011, Revision 1, dated January 24, 2006; and Revision 2, dated July 19, 2006; both state that no further work is required. However, Revision 1 added a “leak check,” and Revision 2 states that a “fueling capacity and leak check procedure” has been added. In fact, the fueling capacity and leak check procedure specified in Revision 2 combines the fuel leakage test from the original issue of the service bulletin, dated April 16, 2004, and the leak check from Revision 1 into a single step, Work Instruction 3.B.14., “fuel leakage test.” Work Instruction 3.B.14. cites a different airplane maintenance manual (AMM) chapter than the original issue or Revision 1 of the service bulletin (AMM 28-11-00). Additionally, the remaining Work Instruction steps have been renumbered. However, if an operator accomplished the actions specified in the original issue or Revision 1 of the service bulletin prior to the effective date of the AD, and no leakage of fuel has since occurred in the subject areas, no additional work is required for compliance with the corresponding requirements of the AD. We have revised paragraph (g) of the AD to include the original issue of the service bulletin.

Request for Clarification of Class ‘L’ Reference

Another commenter, AirTran Airways, states that it supports the NPRM, but expresses confusion regarding the term “class ‘L’ ” that appears in Figure 1 of Boeing Service Bulletin 717-28-0011, Revision 2. The commenter states that, although note (e) of Figure 1 specifies to: “Do class ‘L’ resistance test * * * ” and “Refer to SWPM [standard wiring practices manual] 20-50-01,” Section 20-50-01 of the Boeing SWPM does not identify a class ‘L,’ but rather provides a maximum direct current (DC) resistance and path for lightning protection. The commenter therefore requests that we clarify the reference to class ‘L’ in the final rule.

We partially agree. It is true that note (e) of Figure 1 of the service bulletin refers to a class ‘L’ resistance test, while Section 20-50-01 of the Boeing SWPM no longer refers to class ‘L.’ Class ‘L’ had to do with lightning protection, specified a maximum resistance of 0.0025 ohm, and appeared in earlier versions of the SWPM. However, although the term “class ‘L’ ” no longer appears in the SWPM, note (e) of Figure 1 of the service bulletin specifies the resistance test retained in the SWPM, which states that the maximum resistance must not exceed 2.5 milliohms (0.0025 ohm). We have determined that the term “class ‘L’ ” is not important in this context, and the directions of note (e) of Figure 1 of the service bulletin are otherwise acceptable as written; however, for clarity, we have added a note after paragraph (f) of the AD concerning this issue.

Request To Revise Compliance Time

The same commenter notes that the compliance time in the NPRM does not match that in the service bulletin. The commenter states that the NPRM specifies a reduced compliance time of 78 months due to the nature of the unsafe condition, and that this difference has been coordinated with Boeing. The commenter suggests that the service bulletin should be revised to match the compliance time required by the AD.

We do not agree. As stated in the NPRM, Boeing concurs with the proposed compliance time. The compliance time is clearly stated in the NPRM. Therefore, there is no safety-related purpose for revising the service bulletin. Further, we do not have the authority to require Boeing to revise the service bulletin to match the compliance time required by this AD. Therefore, we do not find it necessary to pursue any change to the service bulletin.

Request To Publish Incorporation by Reference (IBR) Documents on the Docket Management System (DMS)

The Modification and Replacement Parts Association (MARPA) asserts that IBR documents should be made available to the public by publication in the DMS, keyed to the action that incorporates them. MARPA therefore requests that such documents be published in the DMS prior to release of the final rule.

We do not agree with this request. We are currently in the process of reviewing issues surrounding the posting of service bulletins on the DMS as part of an AD docket. Once we have thoroughly examined all aspects of this issue and have made a final determination, we will consider whether our current practice needs to be revised. No change to the AD is necessary in this regard.

Request To Add FAA Statement of Intent

MARPA requests that, during the NPRM stage of AD rulemaking, the FAA state its intent to IBR any relevant service information. MARPA states that without such a statement in the NPRM, it is unclear whether we will IBR the relevant service information in the final rule.

We do not concur with MARPA's request. When we reference certain service information in a proposed AD, the public can assume we intend to IBR that service information, as required by the Office of the Federal Register. No change to the AD is necessary in regard to this request.

Conclusion

We have carefully reviewed the available data, including the comments received, and determined that air safety and the public interest require adopting the AD with the change described previously. We have determined that this change will neither increase the economic burden on any operator nor increase the scope of the AD.

Costs of Compliance

There are about 138 airplanes of the affected design in the worldwide fleet. This AD affects about 108 airplanes of U.S. registry. The required actions take about 6 work hours per airplane, at an average labor rate of $80 per work hour. The manufacturer states that it will supply required parts to the operators at no cost. Based on these figures, the estimated cost of the AD for U.S. operators is $51,840, or $480 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-05-06 McDonnell Douglas: Amendment 39-14967. Docket No. FAA-2006-26048; Directorate Identifier 2006-NM-191-AD.

Effective Date

(a) This AD becomes effective April 9, 2007.

Affected ADs

(b) None.

Applicability

(c) This AD applies to McDonnell Douglas Model 717-200 airplanes, certificated in any category; as identified in Boeing Service Bulletin 717-28-0011, Revision 2, dated July 19, 2006.

Unsafe Condition

(d) This AD results from fuel system reviews conducted by the manufacturer. We are issuing this AD to provide a conductive path, from the bulkhead nipple assemblies of the left and right wing vent boxes to the airframe structure inside the wing fuel tanks, to dissipate high-amperage lightning-induced currents, which might otherwise create an ignition source for fuel vapors inside the wing vent boxes and lead to an explosion of the fuel tanks.

Compliance

(e) You are responsible for having the actions required by this AD performed within the compliance times specified, unless the actions have already been done.

Installing Electrical Bonding, and Resistance and Fuel Leakage Testing

(f) Within 78 months after the effective date of this AD, replace certain attaching hardware of the bulkhead nipple assemblies of the left and right wing vent boxes with new electrical bonding attaching hardware, do resistance testing of the new electrical bonds, and do fuel leakage testing of the reworked nipple assemblies; in accordance with the Accomplishment Instructions of Boeing Service Bulletin 717-28-0011, Revision 2, dated July 19, 2006.

Note 1: Note (e) of Figure 1 of the service bulletin refers to a class ‘L’ resistance test. However, we have determined that the term “class ‘L’ ” is not important in this context and the directions of note (e) of Figure 1 of the service bulletin are otherwise acceptable as written.

Actions Accomplished According to Previous Issue of Service Bulletin

(g) Actions accomplished before the effective date of this AD in accordance with Boeing Service Bulletin 717-28-0011, dated April 16, 2004; or Revision 1, dated January 24, 2006; are acceptable for compliance with the corresponding actions specified in this AD.

Alternative Methods of Compliance (AMOCs)

(h)(1) The Manager, ANM-116, International Branch, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(i) You must use Boeing Service Bulletin 717-28-0011, Revision 2, dated July 19, 2006, to perform the actions that are required by this AD, unless the AD specifies otherwise. The Director of the Federal Register approved the incorporation by reference of this document in accordance with 5 U.S.C. 552(a) and 1 CFR part 51. Contact Boeing Commercial Airplanes, Long Beach Division, 3855 Lakewood Boulevard, Long Beach, California 90846, Attention: Data and Service Management, Dept. C1-L5A (D800-0024), for a copy of this service information. You may review copies at the FAA, Transport Airplane Directorate, 1601 Lind Avenue, SW., Renton, Washington 98057-3356; or at the National Archives and Records Administration (NARA). For information on the availability of this material at NARA, call 202-741-6030, or go to: http://www.archives.gov/federal-register/cfr/ibr-locations.html.

Issued in Renton, Washington, on February 21, 2007.
Ali Bahrami,
Manager, Transport Airplane Directorate, Aircraft Certification Service.

[FR Doc. E7-3560 Filed 3-2-07; 8:45 am]

BILLING CODE 4910-13-P